DEPARTMENT OF THE INTERIOR

Bureau of Land Management

[LLNM920000 L13200000.EW0000; NMNM-123298]

Notice of Invitation To Participate; Exploration for Coal in New Mexico; License NMNM 123298

AGENCY: Bureau of Land Management, Interior.

ACTION: Notice.

SUMMARY: Members of the public are invited to participate with the San Juan Coal Company, on a pro rata cost-sharing basis, in a program for the exploration of coal deposits owned by the United States of America.

DATES: The Bureau of Land Management (BLM) and the San Juan Coal Company must receive notices from the public expressing their interest in participating in the coal-exploration program no later than February 4, 2010.

ADDRESSES: Interested parties may obtain a complete description of the lands covered in the license application by contacting the San Juan Coal Company, or the Bureau of Land Management, New Mexico State Office, Solid Minerals Adjudication, P.O. Box 27115, Santa Fe, New Mexico 87502-0115. Any parties electing to participate in this exploration program shall notify, in writing, both the State Director, Bureau of Land Management, New Mexico State Office, P.O. Box 27115, Santa Fe, New Mexico 87502-0115 and the San Juan Coal Company, P.O. Box 561, Waterflow, New Mexico 87421. The written notice must include a justification for participation and any recommended changes in the exploration plan with specific reasons for such changes.

FOR FURTHER INFORMATION CONTACT: Angela Trujillo at (505) 438-7592.

SUPPLEMENTARY INFORMATION: The lands are located in San Juan County, New Mexico, and are described as follows:

T. 30 N., R. 14 W., NMPM

Sec. 9: All;

Sec. 10: Lots 1, 2, 3, 4, S½N½, S½;

Sec. 15: All;

Sec. 21: All;

Sec. 22: All;

Sec. 27: All;

Sec. 28: All;

Sec. 33: Lots 1, 2, 3, 4, N½, N½S½;

Sec. 34: Lots 2, 3, 4, 5, 6, 7, 8, N½, N½S½.

These lands contain 5,802.15 acres, more or less.

This proposed exploration program is for the purpose of determining the quality and quantity of the coal in the area and will be conducted pursuant to an exploration plan to be approved by the BLM. A copy of the exploration plan, as submitted by the San Juan Coal Company, may be examined at the BLM's New Mexico State Office, 301 Dinosaur Trail, Santa Fe, New Mexico 87508, and the BLM's Farmington Field Office, 1235 La Plata Highway, Suite A, Farmington, New Mexico 87401.

Jesse J. Juen,
Acting State Director.

[FR Doc. E9-31241 Filed 1-4-10; 8:45 am]

BILLING CODE 4310-FB-P